DEPARTMENT OF DEFENSE

Department of the Navy

Revised Notice of Intent To Prepare an Environmental Impact Statement/Overseas Environmental Impact Statement for the Undersea Warfare Training Range and Notice of Request for Public Scoping Comments

AGENCY: Department of the Navy, DoD.

ACTION: Revised Notice of Intent.

SUMMARY: This notice is issued to advise the public that the Draft Environmental Impact Statement/Overseas Environmental Impact Statement (EIS/OEIS) for the Undersea Warfare Training Range (USWTR) will be revised, and to invite the public to provide comments for consideration during preparation of the revised EIS/OEIS.

In compliance with Section (102)(2)(c) of the National Environmental Policy Act (NEPA) of 1969, as implemented by the Council on Environmental Quality Regulations (40 CFR Parts 1500-1508), and Executive Order 12114, the Department of Navy (Navy) announced the preparation of an EIS for the then “East Coast Shallow Water Training Range EIS/OEIS” on May 13, 1996 (FR 22028) and invited the public to comment on the scope of the EIS/OEIS. Subsequently, a Draft EIS/OEIS was released on October 28, 2005 (FR 62107) to evaluate the potential environmental consequences associated with constructing and operating an Undersea Warfare Training Range (USWTR). In response to comments received from federal agencies, state agencies, and members of the public, Navy determined that the DEIS should be revised and a new DEIS issued, incorporating suggestions received during the public review and comment period. The changes contemplated involve the addition of an alternative and a modification of the methodology used to analyze impacts on marine mammals. Given the nature of these changes, the Navy has decided to reopen the scoping process and invites the public to submit any comments relevant to the scope of issues to be addressed in the revised EIS/OEIS.

Scoping comments previously submitted following publication of the 1996 NOI are still valid and will be considered.

All comments received during the Oct 2005 DEIS public review and comment period will be considered during the course of this scoping process and need not be resubmitted.

The proposed action is to instrument an approximate 500-square-nautical-mile area of the ocean with undersea cables and sensor nodes, creating a USWTR, and to use the USWTR for anti-submarine warfare (ASW) training. The purpose of the proposed action is to enable the Navy to train effectively in an ocean environment encompassing required water depths (e.g., 120 to 900 feet depth) at a suitable location for Navy Atlantic Fleet units. Training typically would involve an individual unit or up to three vessels and two aircraft using the range at any one time.

The Navy anticipates analyzing four alternative sites. The candidate sites are located in the Atlantic Ocean approximately 30 to 50 nautical miles offshore, within existing Navy Operating Areas (OPAREAs). The three candidate sites previously identified as alternatives would continue to be considered: Offshore of northeastern Virginia, offshore of southeastern North Carolina, and offshore of northeastern Florida. A site offshore of central South Carolina will be added as a fourth alternative.

FOR FURTHER INFORMATION CONTACT: USWTR EIS/OEIS Project Manager, Facilities Engineering Command Atlantic, 6506 Hampton Boulevard, Norfolk, Virginia 23508-1278; telephone: 757-322-4398; facsimile: 757-322-4894. Additional background information on the USWTR, including the prior DEIS and the public comments received, will remain available during this re-opened scoping process via the Web site http://projects.earthtech.com/USWTR/.

SUPPLEMENTARY INFORMATION: The Navy requires an undersea warfare training range off the east coast of the U.S. to support training in safe and controlled locations while providing an ocean environment that is consistent with real-world threat conditions. Range instrumentation is required to provide real-time feedback to Navy participants. The offshore instrumented area would be connected to shore via a trunk cable, which allows data gathered during exercises to be transferred for participant feedback.

The Navy's mission is to maintain, train, and equip combat-ready naval forces capable of winning wars, deterring aggression and maintaining freedom of the seas. For that reason, 10 U.S.C. 5062 directs the Chief of Naval Operations to train all naval forces for combat. Therefore, naval forces must have access to training areas where they can develop and maintain skills for wartime missions. ASW is a Navy core capability and is critical to the Navy's mission. The Navy must be trained and capable with active sonars in littoral waters to provide assured access for the U.S. to strategic areas worldwide. Surface ships, aircraft, and submarines conduct ASW and would be the principal users of the USWTR. The proposed action also would require logistical support for ASW training, for example, the handling (launch and recovery) of non-explosive exercise torpedoes.

The EIS/OEIS will evaluate the potential environmental effects associated with: Physical environment; water resources; sound in the water; biological resources, including marine mammals, fish, and threatened and endangered species; coastal uses and resources; socioeconomic resources; and cultural resources. The analysis will include an evaluation of direct and indirect impacts, and will account for cumulative impacts from other actions. No decision will be made to implement any alternative until the EIS/OEIS process is completed and a Record of Decision is signed by the Assistant Secretary of the Navy (Installations and Environment).

The Navy is re-opening a scoping period to identify new community concerns and local issues to be addressed in the EIS/OEIS. Federal agencies, state agencies, local agencies, and interested persons are encouraged to provide written comments to the Navy to identify specific issues or topics of environmental concern that should be addressed in the EIS/OEIS. Comments previously submitted in response to the October 2005 draft EIS will be considered as scoping comments, and need not be resubmitted. Written comments must be postmarked by October 22, 2007, and should be mailed to: Naval Facilities Engineering Command, Atlantic, 6506 Hampton Boulevard, Norfolk, Virginia 23508-1278, Attention: USWTR EIS/OEIS Project Manager, telephone: 757-322-4398, facsimile: 757-322-4894.

Dated: September 18, 2007.
T.M. Cruz,
Lieutenant, Judge Advocate General's Corps, U.S. Navy, Federal Register Liaison Officer.

[FR Doc. E7-18701 Filed 9-20-07; 8:45 am]

BILLING CODE 3810-FF-P